DEPARTMENT OF HEALTH AND HUMAN SERVICES

Health Resources and Services Administration

National Vaccine Injury Compensation Program; List of Petitions Received

AGENCY: Health Resources and Services Administration (HRSA), Department of Health and Human Services (HHS).

ACTION: Notice.

SUMMARY: HRSA is publishing this notice of petitions received under the National Vaccine Injury Compensation Program (the Program), as required by the Public Health Service (PHS) Act, as amended. While the Secretary of HHS is named as the respondent in all proceedings brought by the filing of petitions for compensation under the Program, the United States Court of Federal Claims is charged by statute with responsibility for considering and acting upon the petitions.

FOR FURTHER INFORMATION CONTACT: For information about requirements for filing petitions, and the Program in general, contact Lisa L. Reyes, Clerk of Court, United States Court of Federal Claims, 717 Madison Place NW, Washington, DC 20005, (202) 357-6400. For information on HRSA's role in the Program, contact the Director, National Vaccine Injury Compensation Program, 5600 Fishers Lane, Room 08W-25A, Rockville, Maryland 20857; (301) 443-6593, or visit our website at: http://www.hrsa.gov/vaccinecompensation/index.html.

SUPPLEMENTARY INFORMATION: The Program provides a system of no-fault compensation for certain individuals who have been injured by specified childhood vaccines. Subtitle 2 of title XXI of the PHS Act, 42 U.S.C. 300aa-10 et seq., provides that those seeking compensation are to file a petition with the United States Court of Federal Claims and to serve a copy of the petition to the Secretary of HHS, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at 42 CFR 100.3. This Table lists for each covered childhood vaccine the conditions that may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on March 1, 2024, through March 31, 2024. This list provides the name of the petitioner, city, and state of vaccination (if unknown then the city and state of the person or attorney filing the claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table but which was caused by” one of the vaccines referred to in the Table, or

b. “[S]ustained, or had significantly aggravated, any illness, disability, injury, or condition set forth in the Vaccine Injury Table the first symptom or manifestation of the onset or significant aggravation of which did not occur within the time period set forth in the Table but which was caused by a vaccine” referred to in the Table.

In accordance with section 2112(b)(2), all interested persons may submit written information relevant to the issues described above in the case of the petitions listed below. Any person choosing to do so should file an original and three (3) copies of the information with the Clerk of the United States Court of Federal Claims at the address listed above (under the heading “For Further Information Contact”), with a copy to HRSA addressed to Director, Division of Injury Compensation Programs, Health Systems Bureau, 5600 Fishers Lane, 08W-25A, Rockville, Maryland 20857. The Court's caption (Petitioner's Name v. Secretary of HHS) and the docket number assigned to the petition should be used as the caption for the written submission. Chapter 35 of Title 44, United States Code, related to paperwork reduction, does not apply to information required for purposes of carrying out the Program.

Carole Johnson,
Administrator.

List of Petitions Filed

1. Michelle Montgomery, Philadelphia, Pennsylvania, Court of Federal Claims No: 24-0323V

2. Lauryn Thomas, Los Angeles, California, Court of Federal Claims No: 24-0324V

3. William Cook, West Des Moines, Iowa, Court of Federal Claims No: 24-0326V

4. Alfred D. Coriale, Kittanning, Pennsylvania, Court of Federal Claims No: 24-0328V

5. John Battaglia, Port Matilda, Pennsylvania, Court of Federal Claims No: 24-0329V

6. Jon Jameson, Eugene, Oregon, Court of Federal Claims No: 24-0330V

7. Amy Meyerhofer, Appleton, Wisconsin, Court of Federal Claims No: 24-0331V

8. Jennifer L. Zinn, Mukwonago, Wisconsin, Court of Federal Claims No: 24-0332V

9. Victoria Napolitano, Greensboro, North Carolina, Court of Federal Claims No: 24-0333V

10. Jill Duffield, Alum Creek, West Virginia, Court of Federal Claims No: 24-0336V

11. Michele Bisordi, Bethel, Connecticut, Court of Federal Claims No: 24-0338V

12. Tina Nackos, Provo, Utah, Court of Federal Claims No: 24-0341V

13. Amna Ahmed, M.D., Sugar Land, Texas, Court of Federal Claims No: 24-0342V

14. John Ingrao, Dresher, Pennsylvania, Court of Federal Claims No: 24-0343V

15. Destinee Ober, Danielson, Connecticut, Court of Federal Claims No: 24-0344V

16. Carla Kohler, Fogelsville, Pennsylvania, Court of Federal Claims No: 24-0347V

17. Maryann Nadeau, Boston, Massachusetts, Court of Federal Claims No: 24-0348V

18. Viola Leonard, Stockton, California, Court of Federal Claims No: 24-0349V

19. Michele L. Sabbia, Plymouth, New Hampshire, Court of Federal Claims No: 24-0353V

20. Suriya Sortheppharak and Jade Castaneda on behalf of J. S., Maricopa, Arizona, Court of Federal Claims No: 24-0358V

21. David Phillips, Cranston, Rhode Island, Court of Federal Claims No: 24-0359V

22. Raymond Wright, Winter Haven, Florida, Court of Federal Claims No: 24-0360V

23. Shannon Pesce, Greenwich, Connecticut, Court of Federal Claims No: 24-0363V

24. Steven Koran, Boston, Massachusetts, Court of Federal Claims No: 24-0368V

25. Tina Rodrigues, Athol, Massachusetts, Court of Federal Claims No: 24-0369V

26. Kerryington P. Pedigo, Charlotte, North Carolina, Court of Federal Claims No: 24-0373V

27. Karen Salberg, Highlands Ranch, Colorado, Court of Federal Claims No: 24-0374V

28. Joseph Martins on behalf of Z. M., Bayside, New York, Court of Federal Claims No: 24-0375V

29. Nicole Palmieri, Los Angeles, California, Court of Federal Claims No: 24-0377V

30. Candy Speagle, Los Angeles, California, Court of Federal Claims No: 24-0378V

31. Patricia Whittemire, Key West, Florida, Court of Federal Claims No: 24-0379V

32. Claudia Jeffries, Tampa, Florida, Court of Federal Claims No: 24-0380V

33. Ryan Guzek, Warren, Michigan, Court of Federal Claims No: 24-0381V

34. Nicole Bialeschki, Boston, Massachusetts, Court of Federal Claims No: 24-0382V

35. Arthur Culley, Rising Sun, Maryland, Court of Federal Claims No: 24-0383V

36. Sarah Pappalardo, Los Angeles, California, Court of Federal Claims No: 24-0386V

37. Michael P. Duren, Sterling, Virginia, Court of Federal Claims No: 24-0387V

38. Chantel Price on behalf of N.W. Azle, Texas, Court of Federal Claims No: 24-0389V

39. Michael Semegran, Harrington Park, New Jersey, Court of Federal Claims No: 24-0390V

40. Amir Goldkorn, Los Angeles, California, Court of Federal Claims No: 24-0392V

41. Gayle Kirschenbaum, New York, New York, Court of Federal Claims No: 24-0393V

42. Erin Severens, Worcester, Massachusetts, Court of Federal Claims No: 24-0394V

43. John Charles Zimmerman, West New York, New Jersey, Court of Federal Claims No: 24-0398V

44. Scott Youngmark, Boscobel, Wisconsin, Court of Federal Claims No: 24-0399V

45. Faith Matter, Los Angeles, California, Court of Federal Claims No: 24-0400V

46. Rafaela Torres, Houston, Texas, Court of Federal Claims No: 24-0401V

47. Donald Treat, Crestwood, Kentucky, Court of Federal Claims No: 24-0403V

48. Marangelis Berrios-Cruz, Moncks Corner, South Carolina, Court of Federal Claims No: 24-0405V

49. Nicole O'Donnell, Alexandria, Virginia, Court of Federal Claims No: 24-0409V

50. Ekaterina Pushkarnaya, San Francisco, California, Court of Federal Claims No: 24-0410V

51. Saira Javaid, Windsor Mill, Maryland, Court of Federal Claims No: 24-0411V

52. Janna Henry, Fort Worth, Texas, Court of Federal Claims No: 24-0412V

53. Celia Fernandez, Chicago, Illinois, Court of Federal Claims No: 24-0414V

54. James Socha, Waupun, Wisconsin, Court of Federal Claims No: 24-0416V

55. Jessica Berthold, San Francisco, California, Court of Federal Claims No: 24-0417V

56. Sharelle Silas, New York, New York, Court of Federal Claims No: 24-0418V

57. Eric P. Rast, Rochester, New York, Court of Federal Claims No: 24-0419V

58. Trina Daily, Los Angeles, California, Court of Federal Claims No: 24-0420V

59. Danel Brunell, Ogden, Utah, Court of Federal Claims No: 24-0421V

60. Rebecca Beisel, Crozet, Virginia, Court of Federal Claims No: 24-0423V

61. Lisa Soriano, Durham, North Carolina, Court of Federal Claims No: 24-0425V

62. Cassandra Bynum, Memphis, Tennessee, Court of Federal Claims No: 24-0428V

63. Angela J. German, Seattle, Washington, Court of Federal Claims No: 24-0429V

64. Sarah Horvat, Twinsburg, Ohio, Court of Federal Claims No: 24-0430V

65. Leonora Briggs, Kansas City, Kansas, Court of Federal Claims No: 24-0431V

66. Destiny Wisniewski, The Woodlands, Texas, Court of Federal Claims No: 24-0432V

67. Kimberly Palmer, Trinidad, Colorado, Court of Federal Claims No: 24-0433V

68. Barry Stoddard, Kansas City, Kansas, Court of Federal Claims No: 24-0434V

69. Kathy Mergel, Boston, Massachusetts, Court of Federal Claims No: 24-0435V

70. Sally Nellson-Barrett, Boston, Massachusetts, Court of Federal Claims No: 24-0437V

71. Benjamin Mayberry, Dresher, Pennsylvania, Court of Federal Claims No: 24-0438V

72. Lea Cross, Weston, West Virginia, Court of Federal Claims No: 24-0441V

73. Kristin Labelle, Mount Pleasant, Michigan, Court of Federal Claims No: 24-0443V

74. Alix Riske on behalf of C. ., Valencia, California, Court of Federal Claims No: 24-0444V

75. Stephina Fuller, Moorestown, New Jersey, Court of Federal Claims No: 24-0445V

76. Daniel Bartelt, Waupun, Wisconsin, Court of Federal Claims No: 24-0449V

77. Tessa Wells, Aspen, Colorado, Court of Federal Claims No: 24-0450V

78. Julia Seibert, Dallas, Oregon, Court of Federal Claims No: 24-0453V

79. Kathleen David-Geisner, Allentown, Pennsylvania, Court of Federal Claims No: 24-0454V

80. William Silver, Loveland, Colorado, Court of Federal Claims No: 24-0457V

81. Jana Janco, Poughkeepsie, New York, Court of Federal Claims No: 24-0459V

82. Bertina Chian, Los Altos, California, Court of Federal Claims No: 24-0460V

83. Steven Appleget, Phoenix, Arizona, Court of Federal Claims No: 24-0464V

84. Macaylee Nikolov, Los Angeles, California, Court of Federal Claims No: 24-0465V

85. Stephen Erickson, Peoria, Arizona, Court of Federal Claims No: 24-0466V

86. Peter Tatum, Boulder, Colorado, Court of Federal Claims No: 24-0472V

87. Thomas McGrath, Toms River, New Jersey, Court of Federal Claims No: 24-0473V

88. Stephanie Ervin, East Orange, New Jersey, Court of Federal Claims No: 24-0474V

89. Ranae Baltrush, Farmington, Missouri, Court of Federal Claims No: 24-0478V

90. Derek Troccia, Peterborough, New Hampshire, Court of Federal Claims No: 24-0479V

91. Deborah Johnson, Portsmouth, Virginia, Court of Federal Claims No: 24-0484V

92. Kaye L. Aston, Austin, Texas, Court of Federal Claims No: 24-0486V

[FR Doc. 2024-08398 Filed 4-18-24; 8:45 am]

BILLING CODE 4165-15-P